FEDERAL COMMUNICATIONS COMMISSION

47 CFR Part 73

[DA 00-188; MM Docket No. 99-108; RM-9511; MM Docket No. 99-112; RM-9540; MM Docket No. 99-147; RM-9555]

Radio Broadcasting Services; Sawpit, CO; Thermal, CA; Congress, AZ

AGENCY: Federal Communications Commission.

ACTION: Proposed rule; denials.

SUMMARY: This document denies three petitions for rule making filed by Mountain West Broadcasting proposing the allotment of new FM channels to Sawpit, Colorado (MM Docket No. 99-108; RM-9511), 64 FR 17139, April 8, 1999; Thermal, California (MM Docket No. 99-112; RM-9540), 64 FR 17142, April 8, 1999; and Congress, Arizona (MM Docket No. 99-147; RM-9555), 64 FR 26717, May 17, 1999, for failure to demonstrate each locality's status as a bona fide community for allotment purposes. With this action, the referenced proceedings are terminated.

ADDRESSES: Federal Communications Commission, Washington, DC 20554.

FOR FURTHER INFORMATION CONTACT: Nancy Joyner, Mass Media Bureau, (202) 418-2180.

SUPPLEMENTARY INFORMATION: This is a synopsis of the Commission's Report and Order, MM Docket No. 99-108; MM Docket No. 99-112; and MM Docket No. 99-147, adopted January 27, 2000, and released February 4, 2000. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, D.C. 20036, (202) 857-3800.

List of Subjects 47 CFR Part 73

Radio broadcasting.

Federal Communications Commission.
John A. Karousos,
Chief, Allocations Branch, Policy and Rules Division, Mass Media Bureau.

[FR Doc. 00-4083 Filed 2-18-00; 8:45 am]

BILLING CODE 6712-01-P